DEPARTMENT OF TRANSPORTATION

Federal Aviation Administration

14 CFR Part 39

[Docket No. FAA-2010-0436; Directorate Identifier 2009-NM-230-AD; Amendment 39-16643; AD 2011-07-06]

RIN 2120-AA64

Airworthiness Directives; Bombardier, Inc. Model CL-600-2B19 (Regional Jet Series 100 & 440) Airplanes

AGENCY: Federal Aviation Administration (FAA), DOT.

ACTION: Final rule; correction.

SUMMARY: The FAA is correcting an airworthiness directive (AD) that published in the Federal Register. That AD applies to the products listed above. The service information reference in paragraph (g)(7) in the Actions section of the AD is incorrect. This document corrects that error. In all other respects, the original document remains the same.

DATES: This final rule is effective May 24, 2011. The effective date for AD 2011-07-06 remains May 6, 2011.

ADDRESSES: You may examine the AD docket on the Internet at http.//www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Wing Chan, Aerospace Engineer, Avionics and Flight Test Branch, ANE-172, FAA, New York Aircraft Certification Office (ACO), 1600 Stewart Avenue, Suite 410, Westbury, New York 11590; telephone (516) 228-7311; fax (516) 794-5531; e-mail: wing.chan@faa.gov.

SUPPLEMENTARY INFORMATION: Airworthiness Directive 2011-07-06, amendment 39-16643 (76 FR 18024, April 1, 2011), currently requires revising the Limitations and Normal Procedures sections of the airplane flight manual; revising the maintenance program for certain airplanes by incorporating certain inspections; replacing certain data concentrator units (DCUs) with modified DCUs, and, if applicable, modifying the configuration strapping units, installing the outboard low-heat detection switches and wing A/ICE box assembly and its associated wires; and activating the outboard low-heat detection switches; for Bombardier, Inc. Model CL-600-2B19 (Regional Jet Series 100 & 440) airplanes.

In the AD as published, the reference to Bombardier Service Bulletin 601R-30-034, dated November 19, 2007, in paragraph (g)(7) of the AD is incorrect. The reference to the Bombardier Service Bulletin should read Bombardier Service Bulletin 601R-31-034, dated November 19, 2007.

No other part of the preamble or regulatory information has been changed; therefore, only the changed portion of the final rule is being published in the Federal Register.

The effective date of this AD remains May 6, 2011.

Correction of Regulatory Text

§ 39.13 [Corrected]

In the Federal Register of April 1, 2011, on page 18028, in the first column, paragraph (g)(7) of AD 2011-07-06 is corrected to read as follows:

* * * * *

(7) Replacing DCUs P/N 622-9820-007, 622-9820-008, or 622-9820-009 with modified DCUs having P/N 622-9820-010, and modifying CSUs, are also acceptable for compliance with the requirements of paragraph (g)(3) of this AD if done before the effective date of this AD, in accordance with Accomplishment Instructions of Bombardier Service Bulletin 601R-31-034, dated November 19, 2007.

* * * * *

Issued in Renton, Washington, on May 13, 2011.
Ali Bahrami,
Manager, Transport Airplane Directorate, Aircraft Certification Service.

[FR Doc. 2011-12587 Filed 5-23-11; 8:45 am]

BILLING CODE 4910-13-P